DEPARTMENT OF HOMELAND SECURITY

Coast Guard

33 CFR Parts 100, 117, 147, and 165

[USCG-2014-0567]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and that were made temporarily effective between July 2013 and June 2014, and that expired before they could be published in the Federal Register. This notice lists temporary safety zones, security zones, special local regulations, drawbridge operation regulations and regulated navigation areas, all of limited duration and for which timely publication in the Federal Register was not possible.

DATES: This document lists temporary Coast Guard rules that became effective between July 2013 and June 2014, and were terminated before they could be published in the Federal Register.

ADDRESSES: The Docket Management Facility maintains the public docket for this notice. Documents indicated in this notice will be available for inspection or copying at the Docket Management Facility (M-30), U.S. Department of Transportation, West Building ground floor, Room W12-140, 1200 New Jersey Avenue SE., Washington, DC 20590 between 9 a.m. and 5 p.m., Monday through Friday, except federal holidays.

FOR FURTHER INFORMATION CONTACT: For questions on this notice contact Yeoman Second Class Maria Fiorella Villanueva, Office of Regulations and Administrative Law, telephone (202) 372-3862. For questions on viewing, or on submitting material to the docket, contact Cheryl Collins, Program Manager, Docket Operations, telephone 202-366-9826.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register is often precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated.

The temporary rules listed in this notice have been exempted from review under Executive Order 12666, Regulatory Planning and Review, because of their emergency nature, limited scope and temporary effectiveness.

The following unpublished rules were placed in effect temporarily during the period between July 2013 and June 2014 unless otherwise indicated. To view copies of these rules, visit www.regulations.gov and search by the docket number indicated in the list below.

Dated: July 23, 2014.
K.G. Cervoni,
Chief, Office of Regulations and Administrative Law, U.S. Coast Guard.

Docket No. | Location | Type | Effective date
USCG-2013-0640 | Chester, PA | Safety Zones (Parts 147 and 165) | 7/20/2013
USCG-2013-0733 | Ocean City, NJ | Safety Zones (Parts 147 and 165) | 8/24/2013
USCG-2013-0846 | Miami Beach, FL | Safety Zones (Parts 147 and 165) | 9/14/2013
USCG-2013-0565 | Miami, FL | Safety Zones (Parts 147 and 165) | 9/28/2013
USCG-2013-0565 | Miami, FL | Safety Zones (Parts 147 and 165) | 9/28/2013
USCG-2013-0862 | Seattle, WA | Drawbridges (Part 117) | 10/5/2013
USCG-2013-0815 | San Diego, CA | Safety Zones (Parts 147 and 165) | 10/12/2013
USCG-2013-0867 | Harsens Island, MI | Safety Zones (Parts 147 and 165) | 10/19/2013
USCG-2013-0821 | Lake Havasu, AZ | Safety Zones (Parts 147 and 165) | 10/19/2013
USCG-2013-0945 | Pago Harbor, American Samoa | Special Local Regulation (Part 100) | 11/11/2013
USCG-2013-0894 | Savannah, GA | Safety Zones (Parts 147 and 165) | 11/13/2013
USCG-2013-1013 | Allegheny and Ohio Rivers | Safety Zones (Parts 147 and 165) | 12/15/2013
USCG-2014-0019 | Los Angeles, CA | Safety Zones (Parts 147 and 165) | 1/25/2014
USCG-2014-0018 | Vero Beach, FL | Safety Zones (Parts 147 and 165) | 1/25/2014
USCG-2014-0025 | Mt. Vernon, IN | Safety Zones (Parts 147 and 165) | 1/26/2014
USCG-2014-0029 | West Mifflin, PA | Security Zones (Part 165) | 1/27/2014
USCG-2013-1086 | Cambridge, MD | Security Zone (Part 165) | 1/29/2014
USCG-2014-0039 | Evansville, IN | Safety Zones (Parts 147 and 165) | 1/29/2014
USCG-2014-0022 | Gloucester, VA | Safety Zones (Parts 147 and 165) | 2/9/2014
USCG-2014-0061 | Coral Gables, FL | Security Zone (Part 165) | 2/12/2014
USCG-2014-0057 | Gulfport, MS | Safety Zones (Parts 147 and 165) | 2/12/2014
USCG-2014-0043 | Liberty Island, NY | Safety Zones (Parts 147 and 165) | 2/13/2014
USCG-2014-0103 | Rockwood, IL | Safety Zones (Parts 147 and 165) | 2/15/2014
USCG-2014-0084 | Saint Louis, MO | Security Zone (Part 165) | 2/19/2014
USCG-2013-0999 | La Conner, WA | Safety Zones (Parts 147 and 165) | 2/21/2014
USCG-2014-0078 | San Pedro, CA | Security Zones (Part 165) | 2/21/2014
USCG-2014-0030 | Savannah, GA | Safety Zone (Parts 147 and 165) | 2/23/2014
USCG-2014-0031 | Tavares, FL | Special Local Regulation (Part 100) | 3/1/2014
USCG-2014-0136 | San Diego, CA | Safety Zones (Parts 147 and 165) | 3/1/2014
USCG-2014-0070 | Sacramento, CA | Drawbridge Operation Regulation (Part 117) | 3/3/2014
USCG-2014-0164 | Manhattan, NY | Security Zone (Part 165) | 3/11/2014
USCG-2014-0141 | Savannah, GA | Safety Zones (Parts 147 and 165) | 3/13/2014
USCG-2014-0129 | Manitowoc, Wisconsin | Safety Zone (Parts 147 and 165) | 3/14/2014
USCG-2012-0087 | Puget Sound, WA | Security Zone (Part 165) | 3/16/2014
USCG-2014-0032 | Tavares, FL | Special Local Regulation (Part 100) | 3/21/2014
USCG-2014-0137 | Fairfax Co, VA and Charles CO, MD | Safety Zone (Parts 147 and 165) | 3/24/2014
USCG-2014-0217 | Ohio River | Safety Zones (Parts 147 and 165) | 3/26/2014
USCG-2011-0489 | Lake Michigan, Chicago Harbor | Security Zone (Part 165) | 4/2/2014
USCG-2014-0131 | Charleston, SC | Security Zones (Part 165) | 4/5/2014
USCG-2014-0225 | Portland, OR | Drawbridge Operation Regulation (Part 117) | 4/6/2014
USCG-2012-0087 | Tacoma, WA | Security Zone (Part 165) | 4/11/2014
USCG-2014-0266 | Manhattan, NY | Security Zone (Part 165) | 4/11/2014
USCG-2014-0276 | Grand Haven, MI | Safety Zones (Parts 147 and 165) | 4/12/2014
USCG-2014-0062 | Englewood Beach, FL | Special Local Regulation (Part 100) | 4/12/2014
USCG-2013-0963 | Ellis Island, NY | Safety Zones (Parts 147 and 165) | 4/15/2014
USCG-2014-0287 | Blytheville, AR | Safety Zones (Parts 147 and 165) | 4/15/2014
USCG-2014-0288 | Miami, FL | Security Zone (Part 165) | 4/17/2014
USCG-2014-0230 | Liberty Island, NY | Safety Zones (Parts 147 and 165) | 4/18/2014
USCG-2014-0304 | Virginia Beach, VA | Safety Zones (Parts 147 and 165) | 4/18/2014
USCG-2014-0270 | Seattle, WA | Drawbridge Operation Regulation (Part 117) | 4/19/2014
USCG-2014-0033 | Daytona Beach, FL | Special Local Regulation (Part 100) | 4/25/2014
USCG-2014-0262 | Wyandotte, MI | Special Local Regulation (Part 100) | 4/26/2014
USCG-2014-0315 | Miami Beach, FL | Safety Zones (Parts 147 and 165) | 4/26/2014
USCG-2014-0322 | San Francisco, CA | Special Local Regulation (Part 100) | 4/27/2014
USCG-2014-0321 | Tiburon, CA | Special Local Regulation (Part 100) | 4/27/2014
USCG-2014-0309 | Wyandotte, MI | Special Local Regulation (Part 100) | 5/3/2014
USCG-2014-0271 | Key West, FL | Special Local Regulation (Part 100) | 5/3/2014
USCG-2014-0045 | Savannah, GA | Safety Zones (Parts 147 and 165) | 5/7/2014
USCG-2011-0258 | Seattle, WA | Special Local Regulation (Part 100) | 5/10/2014
USCG-2014-0327 | Port Huron, MI | Special Local Regulation (Part 100) | 5/10/2014
USCG-2014-0326 | Sacramento, CA | Drawbridge Operation Regulation (Part 117) | 5/13/2014
USCG-2014-0378 | Tarrytown, NY | Security Zone (Part 165) | 5/15/2014
USCG-2014-0355 | Westville, NJ | Safety Zones (Parts 147 and 165) | 5/16/2014
USCG-2014-0077 | Elizabeth City, NC | Safety Zones (Parts 147 and 165) | 5/17/2014
USCG-2014-0294 | Manhattan, NY | Safety Zones (Parts 147 and 165) | 5/17/2014
USCG-2014-0340 | Alameda, CA | Safety Zones (Parts 147 and 165) | 5/17/2014
USCG-2014-0289 | Baltimore, MD | Safety Zones (Parts 147 and 165) | 5/17/2014
USCG-2014-0204 | Cocoa Beach, FL | Special Local Regulation (Part 100) | 5/18/2014
USCG-2014-0396 | Charles County, MD | Safety Zones (Parts 147 and 165) | 5/19/2014
USCG-2014-0069 | Tampa, FL | Safety Zones (Parts 147 and 165) | 5/20/2014
USCG-2014-0399 | New London, CT | Security Zone (Part 165) | 5/21/2014
USCG-2014-0390 | San Francisco, CA | Safety Zones (Parts 147 and 165) | 5/21/2014
USCG-2014-0404 | Chicago, IL | Security Zone (Part 165) | 5/22/2014
USCG-2011-0489 | Lake Michigan, Chicago Harbor | Safety Zones (Parts 147 and 165) | 5/23/2014
USCG-2014-0421 | Washington, DC | Security Zone (Part 165) | 5/26/2014
USCG-2014-0311 | Petaluma, CA | Safety Zones (Parts 147 and 165) | 5/26/2014
USCG-2014-0255 | New Orleans, LA | Safety Zones (Parts 147 and 165) | 5/26/2014
USCG-2014-0241 | Newport, KY | Safety Zones (Parts 147 and 165) | 5/31/2014
USCG-2014-0373 | Tavares, FL | Special Local Regulation (Part 100) | 5/31/2014
USCG-2014-0122 | Knoxville, TN | Special Local Regulation (Part 100) | 5/31/2014
USCG-2014-0417 | Oxford, MD | Special Local Regulation (Part 100) | 5/31/2014
USCG-2014-0232 | Mastic Beach, NY | Safety Zones (Parts 147 and 165) | 6/1/2014
USCG-2014-0383 | Detroit, MI | Safety Zones (Parts 147 and 165) | 6/1/2014
USCG-2014-0420 | Tampa, FL | Safety Zones (Parts 147 and 165) | 6/2/2014
USCG-2014-0012 | Jacksonville, FL | Special Local Regulation (Part 100) | 6/6/2014
USCG-2014-0439 | Portland, OR | Drawbridge Operation Regulation (Part 117) | 6/7/2014
USCG-2014-0391 | Erie, PA | Safety Zones (Parts 147 and 165) | 6/7/2014
USCG-2014-0477 | Duluth, MN | Safety Zones (Parts 147 and 165) | 6/7/2014
USCG-2014-0453 | Anne Arundel Counties, MD | Safety Zones (Parts 147 and 165) | 6/10/2014
USCG-2014-0426 | Vermilion, OH | Safety Zones (Parts 147 and 165) | 6/13/2014
USCG-2013-0214 | Port Duluth Zone | Safety Zones (Parts 147 and 165) | 6/14/2014
USCG-2014-0239 | Greenwich, CT | Safety Zones (Parts 147 and 165) | 6/14/2014
USCG-2014-0335 | Oswego, NY | Safety Zones (Parts 147 and 165) | 6/14/2014
USCG-2014-0493 | 5th Coast Guard District | Special Local Regulation (Part 100) | 6/14/2014
USCG-2014-0463 | Ocean City, NJ | Safety Zones (Parts 147 and 165) | 6/16/2014
USCG-2014-0505 | Pacific Ocean, CA | Safety Zones (Parts 147 and 165) | 6/16/2014
USCG-2014-0500 | Patapsco, MD | Safety Zones (Parts 147 and 165) | 6/16/2014
USCG-2014-0474 | Erie, PA | Security Zone (Part 165) | 6/21/2014
USCG-2014-0509 | Oswego, NY | Safety Zones (Parts 147 and 165) | 6/21/2014
USCG-2014-0428 | Pacific Ocean, CA | Safety Zones (Parts 147 and 165) | 6/22/2014
USCG-2014-0502 | San Diego, CA | Safety Zones (Parts 147 and 165) | 6/28/2014

[FR Doc. 2014-17834 Filed 7-28-14; 8:45 am]

BILLING CODE 9110-04-P